DEPARTMENT OF LABOR

Employment and Training Administration

[TA-W-54,998]

GregtagMacbeth, LLC, A Subdivision of Amazys Holding AG, New Windsor, NY; Dismissal of Application for Reconsideration

Pursuant to 29 CFR 90.18(C) an application for administrative reconsideration was filed with the Director of the Division of Trade Adjustment Assistance for workers at GregtagMacbeth, LLC, a subsidiary of Amazys Holding AG, New Windsor, New York. The application contained no new substantial information which would bear importantly on the Department's determination. Therefore, dismissal of the application was issued.

TA-W-54,998; GregtagMacbeth, LLC A subdivision of Amazys Holding AG, New Windsor, New York (August 4, 2004)

Signed at Washington, DC, this 4th day of August, 2004.
Timothy Sullivan,
Director, Division of Trade Adjustment Assistance.

[FR Doc. 04-18321 Filed 8-10-04; 8:45 am]

BILLING CODE 4510-30-P